Title 3—

The President

Proclamation 7464 of September 14, 2001

Amending Proclamation 7461, Display of the Flag at Half-Staff as a Mark of Respect for the Victims of the Incidents on Tuesday, September 11, 2001

By the President of the United States of America

A Proclamation

By the authority vested in me as President of the United States by the Constitution and the laws of the United States of America, and in order to extend the display of the flag at half-staff as a mark of respect for the victims of the terrorist attacks on Tuesday, September 11, 2001, it is hereby ordered that Proclamation 7461 of September 11, 2001, is amended by deleting in the first sentence the words “Sunday, September 16” and inserting in their place the words “Saturday, September 22.”

IN WITNESS WHEREOF, I have hereunto set my hand this fourteenth day of September, in the year of our Lord two thousand one, and of the Independence of the United States of America the two hundred and twenty-sixth.

B

[FR Doc. 01-23473

Filed 9-18-01; 8:45 am]

Billing code 3195-01-P